DEPARTMENT OF HOMELAND SECURITY

Coast Guard

33 CFR Part 117

[Docket No. USCG-2010-1074]

Drawbridge Operation Regulation; Atlantic Intracoastal Waterway, Wrightsville Beach, NC

AGENCY: Coast Guard, DHS.

ACTION: Notice of Temporary Deviation from regulations.

SUMMARY: The Commander, Fifth Coast Guard District, has issued a temporary deviation from the regulation governing the operation of the S.R. 74 Bridge, across the Atlantic Intracoastal Waterway, mile 283.1, at Wrightsville Beach, NC. The deviation is necessary because participants in the 2011 Wrightsville Beach/Quintiles Marathon will be transiting across the bridge during the race. This deviation allows the bridge to remain in the closed position for two hours to accommodate the 2011 Wrightsville Beach/Quintiles Marathon.

DATES: This deviation is effective from 6 a.m. through 8 a.m. on March 20, 2011.

ADDRESSES: Documents mentioned in this preamble as being available in the docket are part of docket USCG-2010-1074 and are available online by going to http://www.regulations.gov, inserting USCG-2010-1074 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Coast Guard; telephone 757-398-6629, e-mail Lindsey.R.Middleton@uscg.mil. If you have questions on viewing the docket, call Renee V. Wright, Program Manager, Docket Operations, telephone 202-366-9826.

SUPPLEMENTARY INFORMATION: The Wrightsville Beach/Quintiles Marathon Committee on behalf of the North Carolina Department of Transportation (NCDOT) requested a temporary deviation from the current operating regulations of the S.R. 74 Bridge across the Atlantic Intracoastal Waterway (AIWW), mile 283.1, at Wrightsville Beach, NC. The current operating schedule for the bridge is set out in 33 CFR 117.821(a)(4). The regulation requires the bridge to open on signal for vessels during all times except from 7 a.m. and 7 p.m. it will open on the hour and every third and fourth Saturday in September it will remain in the closed position from 7 a.m. until 11 a.m. The requested deviation is to accommodate the 2011 Wrightsville Beach/Quintiles Marathon scheduled for Sunday, March 20, 2011. To facilitate this event, the draw of the bridge will be maintained in the closed-to-navigation position from 6 a.m. until 8 a.m.

The bridge is a lift drawbridge with a vertical clearance of 20 feet above mean high water (MHW) in the closed position. Vessels that can pass through the bridge in the closed position may do so. The Coast Guard will inform the users of the waterways through our Local and Broadcast Notices to Mariners of the bridge closure so that vessels can arrange their transits to minimize any impact caused by the temporary deviation. There are no alternate routes available to the vessel. Most of the vessel traffic consists of recreational vessels with a few barges and tugs in the daytime. There is an average of one bridge opening a year for the time covered by the deviation in the past three years. The bridge will not be able to open for emergencies.

In accordance with 33 CFR 117.35(e), the drawbridge must return to its regular operating schedule immediately at the end of the designated time period. This deviation from the operating regulations is authorized under 33 CFR 117.35.

Dated: December 21, 2010.
Waverly W. Gregory, Jr.,
Chief, Bridge Administration Branch, Fifth Coast Guard District.

[FR Doc. 2011-167 Filed 1-7-11; 8:45 am]

BILLING CODE 9110-04-P